INTERNATIONAL BOUNDARY AND WATER COMMISSION UNITED STATES AND MEXICO

Notice of Availability of a Draft Environmental Assessment (EA) and Finding of No Significant Impact (FONSI) for the Management of Federal Grazing Leases at the Falcon Dam and Reservoir, Starr and Zapata Counties, Texas

AGENCY: United States Section, International Boundary and Water Commission, United States and Mexico (USIBWC).

ACTION: Notice of availability; request for comments.

SUMMARY: The USIBWC hereby gives notice that the Draft Environmental Assessment (EA) and Finding of No Significant Impact (FONSI) for the Management of Federal Grazing Leases at the Falcon Dam and Reservoir, Starr and Zapata Counties, Texas is available. The EA evaluates land management alternatives to grazing leases that address low grazing lease values and limited access by USIBWC to leased lands. An Environmental Impact Statement will not be prepared unless additional information which may affect this decision is brought to our attention within 30 days from the date of this Notice.

DATES: Comments are due by December 28, 2023.

ADDRESSES: The electronic version of the amended Draft EA is available at the USIBWC web page: https://www.ibwc.gov/reports-studies/eis-ea-public-comment/. Physical copies of the Draft EA are available at the Joe A. Guerra Laredo Public Library, 1120 E. Calton Rd., Laredo, Texas 78041; the Olga V. Figueroa Zapata County Public Library, 901 Kennedy St., Zapata, Texas 78076; and the Roma Public Library, 1705 N Athens St., Roma, Texas 78584.

Comments should be sent to: Mark Howe, Cultural Resources Specialist, USIBWC, 4191 N Mesa; El Paso, Texas 79902. Email: falconcomments@ibwc.gov. All comments received may be made publicly available without change, including any personal information provided.

FOR FURTHER INFORMATION CONTACT: Mark Howe, Cultural Resources Specialist, Telephone: (915) 832-4767, email: falconcomments@ibwc.gov.

SUPPLEMENTARY INFORMATION: The USIBWC is updating or eliminating active and inactive grazing leases in use for commercial, residential, or recreational purposes on federal land in the Falcon Project (i.e., Falcon Dam and Reservoir). Rights-of-way for the Falcon Project totaled 63,192 acres on the U.S. side of the Falcon Project as of 2000. This project will assist USIBWC in determining if grazing leases should be allowed or discontinued and/or whether land management alternatives should be established in lieu of grazing.

The grazing lease program has continued for areas along the Falcon Reservoir that were originally ranches and farms before the land was acquired by the federal Government pursuant to the Water Treaty of 1944 between the U.S. and Mexico, with construction of the Falcon Project completed on October 19, 1953. The grazing lease program assured those areas not under water or flooded and owned by the federal Government would be economically used as they were in the past by the local community. Initially leases allowed for agricultural uses in addition to grazing, but agricultural activities and any clearing of leased lands were later restricted to reduce potential impacts on cultural resources in accordance with National Historic Preservation Act requirements. Active leases currently only allow grazing activities.

Grazing leases, licenses, and permits consist of any written permit or other legal document for an individual, corporation, etc., to use and improve land owned by the U.S. Government under the jurisdiction of the USIBWC at Falcon Reservoir. In the past, 22,270.57 acres of land were under 159 active grazing leases originally issued in 1956. As of 2020, there were 117 active grazing leases with many that are still held by the descendants of the original permittees and/or stakeholders.

The purpose for the Proposed Action is to successfully manage federal land in the Falcon Project. Federal lands associated with the Falcon Project have been utilized by the public for various activities, including grazing leases, since the Falcon Project was established. However, the economic value of these leases and the challenges to successful land management require a reevaluation of the grazing lease program. The need is to implement land management alternatives to grazing leases that address low grazing lease values, limited access by USIBWC to leased lands, and unauthorized activities on leased lands.

Pursuant to Section 102(2)(c) of the National Environmental Policy Act (NEPA) of 1969; the Council on Environmental Quality Final Regulations, and the USIBWC Operational Procedures for Implementing Section 102 of NEPA, published in the Federal Register September 2, 1981, USIBWC developed and analyzed eight alternatives for modifying the grazing lease program at the Falcon Project, including the No Action Alternative. Alternative 1, No Action Alternative, is a requirement of the NEPA process and is included to provide a baseline against which the other alternatives can be evaluated. The action alternatives include: Alternative 2—Terminate Leases, Alternative 3—Change Rental Rates on Active Leases and Implement Improved Program Management, Alternative 4—Allow Hunting on Existing Grazing Leases, Alternative 5—Terminate Leases Not Directly Accessible from Public Rights-of-Way, Alternative 6—Negotiate Access Easements on Private Property for Existing Leases, Alternative 7—Amend Leases to Allow Vegetation Management, and Alternative 8—Form a Citizens' Committee to Provide Lease Management Support. The USIBWC has identified that one or any combination of the alternatives could be implemented to manage the grazing lease program at the Falcon Project.

Potential impacts on natural, cultural, and other resources were evaluated in the Draft EA. The USIBWC prepared a FONSI for the Action Alternatives, based on a review of the facts and analyses contained in the Draft EA.

Dated: November 15, 2023.
Rebecca A. Rizzuti,
Deputy Chief Legal Counsel, International Boundary and Water Commission, United States Section.

[FR Doc. 2023-25784 Filed 11-21-23; 8:45 am]

BILLING CODE 7010-01-P